DEPARTMENT OF TRANSPORTATION

Federal Aviation Administration

14 CFR Parts 91 and 135

[Docket No. FAA-2002-14002; Amendment Nos. 91-306 and 135-110]

RIN 2120-AJ46

Communication and Area Navigation Equipment (RNAV) Operations in Remote Locations and Mountainous Terrain

AGENCY: Federal Aviation Administration (FAA), DOT.

ACTION: Final rule; correction.

SUMMARY: This document corrects the amendment number in the final rule published in the Federal Register on Friday, May 1, 2009. That final rule amends the regulations to allow the use of the published Obstacle Departure Procedures (ODP) or an alternative procedure or route assigned by Air Traffic Control (ATC). Also, that final rule amends the requirements to facilitate compliance and accurately reflect operating conditions in areas in which the terrain impedes communications.

DATES: This amendment becomes effective June 30, 2009.

FOR FURTHER INFORMATION CONTACT: For technical questions concerning this final rule, contact Dennis Mills, Aviation Safety Inspector, Air Transportation Division, Fight Standards Service, AFS-220, Federal Aviation Administration, 800 Independence Avenue, SW., Washington, DC 20591; telephone (202) 493-4901 facsimile (202) 267-5229, e-mail dennis.mills@faa.gov. For legal questions concerning this final rule, contact Robert Hawks, General Attorney, Office of the Chief Counsel, Regulations Division, AGC-240, Federal Aviation Administration, 800 Independence Avenue, SW., Washington, DC 20591; telephone (202) 267-7143, facsimile (202) 267-7971, e-mail rob.hawks@faa.gov.

Correction: In the final rule, published in the Federal Register issue of Friday, May 1, 2009 (74 FR 20202), make the following correction—On page 20202, in the second column, the fifth line of the heading, “Amendment Nos. 91-306 and 135-110” is corrected to read “Amendment Nos. 91-306 and 135-116.”

Issued in Washington, DC, on May 19, 2009.
Pamela Hamilton-Powell,
Director, Office of Rulemaking.

[FR Doc. E9-12063 Filed 5-22-09; 8:45 am]

BILLING CODE 4910-13-P